DEPARTMENT OF COMMERCE

National Oceanic and Atmospheric Administration

RIN 0648-XD716

Pacific Fishery Management Council; Public Meeting

AGENCY: National Marine Fisheries Service (NMFS), National Oceanic and Atmospheric Administration (NOAA), Commerce.

ACTION: Notice; public meeting.

SUMMARY: The Pacific Fishery Management Council's (Pacific Council) Highly Migratory Species Management Team (HMSMT) will hold a meeting, which is open to the public.

DATES: The HMSMT will meet Wednesday, February 4 to Friday, February 6, 2015. This meeting will start at 8:30 a.m. and continue until business is concluded on each day.

ADDRESSES: The meeting will be held at the following location: Best Western Plus Inn by the Sea, Wind and Sea Room, 7830 Fay Avenue, La Jolla, CA 92037.

Council address: Pacific Council, 7700 NE Ambassador Place, Suite 101, Portland, OR 97220-1384.

FOR FURTHER INFORMATION CONTACT: Dr. Kit Dahl, Pacific Council; telephone: (503) 820-2422.

SUPPLEMENTARY INFORMATION: The HMSMT will discuss assignments and develop reports for HMS topics to be taken up at Pacific Council meetings in 2015. Topics on the March 2015 Council agenda that the HMSMT will focus on include: (1) Developing a Drift Gillnet Management and Monitoring Plan purpose and need statement and contents; (2) analyzing the range of alternatives adopted by the Council in November 2014 for bycatch reduction and monitoring for the California drift gillnet fishery; and (3) reviewing and making recommendations on exempted fishing permit proposals. The HMSMT will also discuss the planned management strategy evaluation for North Pacific albacore tuna to be conducted by the International Scientific Committee for Tuna and Tuna-Like Species in the North Pacific Ocean and potential Council advice to the U.S. delegation. Time-permitting, the HMSMT may discuss initial planning for topics on future Council meetings including the authorization of a shallow-set longline fishery outside the west coast Exclusive Economic Zone and creating a Federal limited entry permit for the California drift gillnet fishery.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at (503) 820-2425 at least 5 days prior to the meeting date.

Dated: January 13, 2015.
Tracey L. Thompson,
Acting Deputy Director, Office of Sustainable Fisheries, National Marine Fisheries Service.

[FR Doc. 2015-00612 Filed 1-15-15; 8:45 am]

BILLING CODE 3510-22-P